DEPARTMENT OF AGRICULTURE

Animal and Plant Health Inspection Service

[Docket No. 02-103-2]

Public Meeting; Veterinary Biologics

AGENCY: Animal and Plant Health Inspection Service, USDA.

ACTION: Notice of cancellation of meeting.

SUMMARY: We are advising producers and users of veterinary biologics, and other interested individuals, that our planned 12th public meeting on veterinary biologics, which was scheduled to be held March 31 through April 2, 2003, is canceled.

FOR FURTHER INFORMATION CONTACT: Dr. Richard E. Hill, Jr., Director, Center for Veterinary Biologics, Veterinary Services, APHIS, 510 South 17th Street, Suite 104, Ames, IA 50010-8197; phone (515) 232-5785, fax (515) 232-7120, or e-mail CVB@aphis.usda.gov.

SUPPLEMENTARY INFORMATION: In a document published in the Federal Register on November 26, 2002 (67 FR 70714, Docket No. 02-103-1), we gave notice that we would be holding a public meeting March 31 through April 2, 2003, in Ames, IA. The purpose of the meeting was to discuss regulatory and policy issues related to the manufacture, distribution, and use of veterinary biological products. Due to an outbreak of exotic Newcastle disease in commercial and non-commercial poultry flocks in Southern California and Nevada, Center for Veterinary Biologics personnel have been detailed to those States to assist with efforts to control the spread of the outbreak, and this has interfered with our ability to finalize the meeting agenda. We are, therefore, canceling the meeting that had been scheduled for March 31 through April 2, 2003. We regret any inconvenience caused by this cancellation.

Done in Washington, DC this 4th day of February 2003.
Kevin Shea,
Acting Administrator, Animal and Plant Health Inspection Service.

[FR Doc. 03-3180 Filed 2-7-03; 8:45 am]

BILLING CODE 3410-34-P